DEPARTMENT OF THE TREASURY

United States Mint

Notification of Citizens Coinage Advisory Committee May 19, 2014, Public Meeting

ACTION: Notification of Citizens Coinage Advisory Committee May 19, 2014, Public Meeting.

SUMMARY: Pursuant to United States Code, Title 31, section 5135(b)(8)(C), the United States Mint announces the Citizens Coinage Advisory Committee (CCAC) public meeting scheduled for May 19, 2014.

Date: May 19, 2014.

Time: 12:00 noon to 5:30 p.m.

Location: Omni Hotel at Independence Park, 401 Chestnut Street, Philadelphia, PA 19106.

Subject: Review and discussion of candidate designs for the Fallen Heroes of 9/11 Congressional Gold Medal and the 2015 March of Dimes Commemorative Coin Program; review and consideration of additional tribal candidate designs for the Code Talkers Congressional Gold Medals (Crow Tribe); and discussion of design themes for the 2016 America the Beautiful Quarters® Program coins honoring Shawnee National Forest, Cumberland Gap National Historical Park, Harpers Ferry National Historical Park, Theodore Roosevelt National Park, and Fort Moultrie (Fort Sumter National Monument).

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW; Washington, DC 20220; or call 202-354-7200.

Any member of the public interested in submitting matters for the CCAC's consideration is invited to submit them by fax to the following number: 202-756-6525.

Authority: 31 U.S.C. 5135(b)(8)(C).

Dated: April 28, 2014.
Richard A. Peterson,
Deputy Director, United States Mint.

[FR Doc. 2014-10099 Filed 5-1-14; 8:45 am]

BILLING CODE 4810-37-P